SMALL BUSINESS ADMINISTRATION

Audit and Financial Management Advisory (AFMAC)

AGENCY: U.S. Small Business Administration.

ACTION: Notice of open Federal advisory committee meeting.

SUMMARY: The SBA is issuing this notice to announce the location, date, time, and agenda for the next meeting of the Audit and Financial Management Advisory (AFMAC). The meeting will be open to the public.

DATES: The meeting will be held on November 9, 2011 from 1 p.m. to approximately 3 p.m. Eastern Standard Time.

ADDRESSES: The meeting will be accomplished via teleconference with the U.S. Small Business Administration, 409 3rd Street SW., Office of the Chief Financial Officer, Washington, DC 20416.

SUPPLEMENTARY INFORMATION: Pursuant to section 10(a)(2) of the Federal Advisory Committee Act (5 U.S.C., Appendix 2), SBA announces the meeting of the AFMAC. The AFMAC is tasked with providing recommendation and advice regarding the Agency's financial management, including the financial reporting process, systems of internal controls, audit process and process for monitoring compliance with relevant laws and regulations.

The purpose of the meeting is to discuss SBA's FY 2011 Financial Statements, FY 2011 Agency Financial Report, the Auditor's Anticipated Opinion Letter, Anticipated Report on Significant Control Deficiencies or Material Weaknesses, and Anticipated Comments on SBA Compliance with Laws and Administrative Regulations.

Due to the implementation and testing of the Improper Payments Elimination and Recovery Act, the SBA needs to have an emergency AFMAC meeting to finalize its Fiscal Year 2011 Annual Financial Report (AFR). By law, the AFR must be published by November 15, 2011 and therefore the AFMAC meeting must happen immediately.

FOR FURTHER INFORMATION CONTACT: The meeting is open to the public, however advance notice of attendance is requested. Anyone wishing to attend and/or make a presentation to the AFMAC must contact Jonathan Carver, by fax or email, in order to be placed on the agenda. Jonathan Carver, Chief Financial Officer, 409 3rd Street SW., 6th Floor, Washington, DC 20416, phone: (202) 205-6449, fax: (202) 205-6969, email: Jonathan.Carver@sba.gov.

Additionally, if you need accommodations because of a disability or require additional information, please contact Jeff Brown at (202) 205-6117, email: Jeffrey.Brown@sba.gov, SBA, Office of Chief Financial Officer, 409 3rd Street SW., Washington, DC 20416.

For more information, please visit our Web site at http://www.sba.gov/aboutsba/sbaprograms/cfo/index.html.

Dan S. Jones,
White House Liaison.

[FR Doc. 2011-28979 Filed 11-8-11; 8:45 am]

BILLING CODE 8025-01-P